NUCLEAR REGULATORY COMMISSION

[Docket No. 52-037-COL; ASLBP No. 09-884-07-COL-BD01]

AmerenUE, Inc.; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

AmerenUE, Inc. (Callaway Plant Unit 2)

This proceeding concerns petitions to intervene and requests for hearing from petitioners Missouri Coalition for the Environment and Missourians for Safe Energy and from petitioner Missourians Against Higher Utility Rates, as well as requests to be granted discretionary intervention filed by the Public Service Commission of the State of Missouri (PSCM) and the Missouri Office of the Public Counsel, with the PSCM also seeking leave to participate as an interested governmental entity in accordance with 10 CFR 2.315(c). These intervention requests were submitted in response to a February 4, 2009 Notice of Hearing and Opportunity To Petition for Leave To Intervene and Order Imposing Procedures for Access to Sensitive Unclassified Non-Safeguards Information for Contention Preparation on a Combined License for the Callaway Plant Unit 2 (74 FR 6064). Petitioners challenge the application filed by AmerenUE pursuant to Subpart C of 10 CFR part 52 for a combined license for Callaway Plant Unit 2, which would be located in Callaway County, Missouri.

The Board is comprised of the following administrative judges:

G. Paul Bollwerk, III, Chair, Atomic Safety and Licensing Board Panel, U.S. Nuclear Regulatory Commission, Washington, DC 20555-0001.

Richard F. Cole, Atomic Safety and Licensing Board Panel, U.S. Nuclear Regulatory Commission, Washington, DC 20555-0001.

Jeffrey D. E. Jeffries, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 27th day of April 2009.
E. Roy Hawkens,
Chief Administrative Judge, Atomic Safety and Licensing Board Panel.

[FR Doc. E9-10049 Filed 4-30-09; 8:45 am]

BILLING CODE 7590-01-P